DEPARTMENT OF THE TREASURY

Submission for OMB Review; Comment Request

AGENCY: Department of the Treasury.

ACTION: Notice.

The Department of the Treasury will submit the following information collection request to the Office of Management and Budget (OMB) for review and clearance in accordance with the Paperwork Reduction Act of 1995, Public Law 104-13, on or after the date of publication of this notice.

DATES: Comments should be received on or before July 13, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by emailing PRA@treasury.gov or viewing the entire information collection request at www.reginfo.gov.

Financial Crimes Enforcement Network (FinCEN)

OMB Number: 1506-0019.

Type of Review: Extension without change of a currently approved collection.

Title: Suspicious Activity Report by Securities and Futures Industries and 31 CFR 1026.320 and 1023.320.

Abstract: Treasury is requiring certain securities broker-dealers, futures commission merchants and introducing brokers in commodities to file suspicious activity reports. The administrative burden of one hour is assigned to maintain the regulatory requirement in force. The burden for actual reporting is reflected in OMB Control number 1506-0065.

Affected Public: Private Sector: Businesses or other for-profits.

Estimated Annual Burden Hours: 1.

OMB Number: 1506-0035.

Type of Review: Revision of a currently approved collection.

Title: Anti-Money Laundering Programs for Insurance Companies and Non-Bank Residential Mortgage Lenders and Originators.

Abstract: Regulations require insurance companies and non-bank residential mortgage lenders and originators to establish and maintain a written anti-money laundering program. A copy of the written program must be maintained for five years. See 31 CFR 1025.210 and 1029.210.

Affected Public: Private Sector: Businesses or other for-profits.

Estimated Annual Burden Hours: 32,200.

Dated: June 8, 2015.
Dawn D. Wolfgang,
Treasury PRA Clearance Officer.

[FR Doc. 2015-14280 Filed 6-10-15; 8:45 am]

BILLING CODE 4810-02-P